DEPARTMENT OF HEALTH AND HUMAN SERVICES

Administration for Children and Families

Statement of Organization, Functions, and Delegations of Authority for Regional Offices

This Notice amends Part K of the Statement of Organization, Functions, and Delegations of Authority of the Department of Health and Human Services (HHS), Administration for Children and Families (ACF) as follows: Chapter KD, the Regional Offices of the Administration for Children and Families for: Region I, as last amended (61 FR 50029-30) September 24, 1996; Region II, as last amended (61 FR 18147-49) April 24, 1996, and (60 FR 21211-12) May 1, 1995; Region III, as last amended (61 FR 68045) April 26, 1996; Region IV, as last amended (62 FR 15897-99) April 3, 1997; Region V, as last amended (65 FR 8173-74) February 17, 2000; Region VI, as last amended (61 FR 18147-49) April 24, 1996, and (60 FR 27315-16) May 23, 1995; Region VII, as last amended (61 FR 3937-38) February 2, 1996; Region VIII, as last amended (61 FR 52565-66) October 8, 1997; Region IX, as last amended (62 FR 31610-11) June 10, 1997; and Region X, as last amended (61 FR 68045-47) December 26, 1996.

This Notice reflects the elimination of the five-region “Hub” structure and the re-establishment of a ten-region organizational structure.

Each Regional Office is headed by a Regional Administrator who serves as the principal senior official for the Administration for Children and Families (ACF) in providing executive leadership, direction and coordination of ACF programs, goals and priorities in the ten Regional Offices.

I. Chapter KD Is Amended as Follows

A. Delete KD.00 Mission in its entirety and replace with the following:

KD.00 Mission. The Regional Offices of the Administration for Children and Families (ACF) operate with ten Regional Offices and are located as follows: Region I Boston, MA; Region II New York, NY; Region III Philadelphia, PA; Region IV Atlanta, GA; Region V Chicago, IL; Region VI Dallas, TX; Region VII Kansas City, MO; Region VIII Denver, CO; Region IX San Francisco, CA; and Region X Seattle, WA.

Each Regional Office in its respective region represents ACF to state, county, city or town, territories, and tribal governments, grantees, and public and private local organizations in the administration of programs that assist vulnerable and dependent children and families in achieving independence, stability, and self-reliance. These programs include: Child Support Enforcement (CSE), Temporary Assistance for Needy Families (TANF), Foster Care and Adoption Assistance, Head Start, Early Head Start, Child Welfare, Child Care and Development Fund, Child Abuse and Neglect, Runaway and Homeless Youth, and Developmental Disabilities.

The ACF Regional Offices oversee the programmatic and financial management and coordination of the ACF programs in the regions and provide guidance and assistance to the various entities responsible for administering these programs. They monitor the programs to ensure compliance with applicable laws and regulations, and adherence to program and fiscal policies and procedures. They contribute to the development of ACF national policy based on knowledge of implementation and services in the region. The ACF Regional Offices review and approve state plans and, if warranted, submit recommendations to the Assistant Secretary for Children and Families for state plan disapproval. They issue grant awards directly for certain programs, and make recommendations to approve and/or disapprove grant awards for other programs. They advise the Assistant Secretary for Children and Families of problems and issues that may have significant regional or national impact. The ACF Regional Offices act as liaison with the entities responsible for administering the programs, other Federal agencies, and public and private local organizations serving children and families. They develop plans to meet ACF goals and objectives and HHS initiatives. They participate in regional activities to inform the public about ACF programs in coordination with the ACF Office of Public Affairs and the Office of the Secretary at the regional level.

II. Region I, Boston Office of ACF

A. Delete KD1.10 Organization in its entirety and replace with the following:

KD1.10 Organization. The Administration for Children and Families, Region I, Boston Office has a goal-driven structure and is organized as follows:

Office of the Regional Administrator (KD1A)

Goal#1—Family Self Sufficiency

Goal#2—Healthy Children, Families and Communities

Goal#3—Financial Management

B. Delete KD1.20 Functions, Paragraph A, in its entirety and replace with the following:

KD1.20 Functions. A. The Regional Office is headed by a Regional Administrator who reports to the Assistant Secretary for Children and Families through the Director, Office of Regional Operations. In addition, the Office of the Regional Administrator has a Deputy Regional Administrator. The Office provides executive leadership to state, county, city, territorial and tribal governments, as well as public and private local grantees to ensure effective, efficient, results-oriented program and financial management. In addition, the Regional Administrator is responsible for alerting the Assistant Secretary for Children and Families through the Director, Office of Regional Operations to issues that may have significant regional and/or national impact. ACF's primary goal is to assist vulnerable and dependent children and families to achieve economic independence, stability and self-reliance. The Office is responsible for providing centralized management and technical administration of ACF formula, block, entitlement and discretionary grant programs which are designed to assist families achieve economic independence and self-sufficiency, and to ensure that children have safe, healthy and permanent environments in which to grow. It oversees ACF operations and the management of ACF regional staff, coordinates activities across regional programs; and assures that goals and objectives are met and departmental and agency initiatives are carried out.

In order to ensure that agency goals are accomplished, the Office of the Regional Administrator provides leadership to grantees through a staff organized around and focused on ACF goals and priorities. ACF programs and functions are grouped within offices according to ACF goals and priorities. Each group reports to a goal leader charged with achieving measurable progress towards ACF goals and priorities, through its work with state and local grantees, the public, other Federal agencies and internally within the Department. The Regional goal structure is designed to allow ACF to respond quickly in a dynamic and changing environment to emphasize, focus on and achieve ACF and HHS goals and priorities.

The Office takes action to approve certain state plans and submits recommendations to the Assistant Secretary for Children and Families concerning state plan disapproval. The Office contributes to the development of national policy based on regional perspectives on all ACF programs.

The Office provides policy guidance to state, county, city or town and tribal governments and public and private organizations to assure consistent and uniform adherence to federal requirements governing ACF programs. The Office provides technical assistance to entities responsible for administering ACF programs to resolve identified problems, ensures that appropriate procedures and practices are adopted, works with appropriate state and local officials to develop and implement outcome-based performance measures and monitors the programs to ensure their efficiency and effectiveness. It ensures that these entities conform to federal laws, regulations, policies and procedures governing the programs, and exercises all delegated authorities and responsibilities for oversight of the programs. The Office also reviews cost estimates and reports for ACF grant programs and recommends funding levels. The Office performs systematic fiscal reviews and makes recommendations to the Regional Administrator to approve or disallow costs under ACF grant programs and to approve, defer or disallow claims for federal financial participation in ACF formula and entitlement grant programs. As applicable, recommendations are made on the clearance and closure of audits of state and local grantee programs, paying particular attention to financial management deficiencies that decrease the efficiency and effectiveness of the ACF programs and taking steps to monitor the resolution of such deficiencies. The Office issues certain grant awards based on a review of project objectives, budget projections, and proposed funding levels. The Office establishes regional financial management priorities and reviews cost allocation plans, and assists in the review of office automation systems in the region and state systems projects for ACF programs.

The Office provides leadership in forming results-oriented, customer-focused partnerships with administrators of ACF programs. The Office is also responsible for providing administration and management support for the Regional Office. The Office is responsible for day-to-day operational management of regional administrative functions, including budget, performance management, procurement, property management, employee relations, human resource development activities and communications.

The Office represents ACF at the regional level in executive communications within ACF, with the HHS Regional Director, other HHS operating divisions, other Federal agencies, and public or private local organizations representing children and families.

III. Region II, New York Office of ACF

A. Delete KD2.10 Organization in its entirety and replace with the following:

KD2.10 Organization. The Administration for Children and Families, Region II, New York Office is organized as follows:

Office of the Regional Administrator (KD2A)

Office of Management and Data Services (KD2B)

Office of State and Youth Programs (KD2C)

Office of Early Childhood Programs (KD2D)

B. Delete KD2.20 Functions, Paragraph A, in its entirety and replace with the following:

KD2.20 Functions. A. The Regional Office is headed by a Regional Administrator who reports to the Assistant Secretary for Children and Families through the Director, Office of Regional Operations. The Office is responsible for the Administration for Children and Families' key national goals and priorities. It represents ACF's regional interests, concerns, and relationships within the Department and among other Federal agencies and focuses on state agency culture change, more effective partnerships, and improved customer service. The Office provides executive leadership and direction to state, county, city, territorial and tribal governments, as well as public and private local grantees to ensure effective and efficient program and financial management. It ensures that these entities conform to federal laws, regulations, policies and procedures governing the programs, and exercises all delegated authorities and responsibilities for oversight of the programs. The Office takes action to approve certain state plans and submits its recommendations to the Assistant Secretary for Children and Families concerning state plan disapproval. The Office contributes to the development of national policy based on regional perspectives for all ACF programs. It oversees ACF operations and the management of ACF regional staff; coordinates activities across regional programs; and assures that goals and objectives are carried out. The Office alerts the Assistant Secretary for Children and Families to problems and issues that may have significant regional or national impact. It represents ACF at the regional level in executive communications within ACF, with the HHS Regional Director, other HHS operating divisions, other Federal agencies, and public or private local organizations representing children and families.

Within the Office of the Regional Administrator, an administrative staff directs the development of regional work plans related to the overall ACF strategic plan; tracks, monitors and reports on regional progress in the attainment of ACF national goals and objectives; and manages special and sensitive projects. It serves as the focal point for public affairs and contacts with the media, public awareness activities, information dissemination and education campaigns in accordance with the ACF Office of Public Affairs and in conjunction with the HHS Regional Director; and assists the Regional Administrator in the management of cross-cutting initiatives and activities among the regional components.

C. Delete KD2.20 Functions, Paragraph B in its entirety and replace with the following:

B. The Office of Management and Data Services is headed by an Assistant Regional Administrator for Operations who reports to the Regional Administrator. The Office provides day-to-day support for regional administrative and grants management functions, and provides data management and statistical analysis support to all Regional Office components. Administrative functions include budget planning and execution, facility management, employee relations, and human resources development. The Assistant Regional Administrator, acting in the capacity of Financial/Grants Management Officer, and staff provide expertise in business and other non-programmatic areas of grants administration and help ensure that grantees fulfill requirements of laws, regulations, and administrative policies. The Office establishes regional financial management priorities; reviews cost allocation plans; and makes recommendations to the Regional Administrator to (1) approve, defer or disallow claims for federal financial participation in ACF formula and entitlement programs and (2) approve or disallow costs under ACF discretionary grant programs. As applicable, it makes recommendations on the clearance and closure of audits of state and grantee programs, paying particular attention to deficiencies that decrease the efficiency and effectiveness of ACF programs and taking steps to resolve such deficiencies.

The Office represents the Regional Administrator on administrative and grants management matters with ACF central office, states, contractors and grantees. It alerts the Regional Administrator to problems or issues that have significant implications for functional areas under its jurisdiction.

D. Delete KD2.20 Functions, Paragraph C, in its entirety and replace with the following:

C. The Office of State and Youth Programs is headed by an Assistant Regional Administrator who reports to the Regional Administrator and consists of: Child Support Enforcement Division; Self-Sufficiency Programs Division; and Youth and Family Services Division.

The Office is responsible for providing centralized program, financial management and technical administration of certain ACF formula, entitlement, block and discretionary programs, such as Temporary Assistance to Needy Families (TANF), Child Care Development Fund, Child Support Enforcement, Child Welfare Services, Family Preservation and Support, Foster Care and Adoption Assistance, Child Abuse and Neglect, and Runaway and Homeless Youth.

The Office represents the Regional Administrator in dealing with ACF central office, states and grantees on all program and financial management policy matters for programs under its jurisdiction. It alerts the Regional Administrator to problems or issues that have significant implications for the programs.

E. Delete KD2.20 Functions, Paragraph D, in its entirety and replace with the following:

D. The Office of Early Childhood Programs is headed by an Assistant Regional Administrator who reports to the Regional Administrator and consists of: New Jersey and Caribbean Division; and New York State Division.

The Office is responsible for providing a centralized program, financial management and technical administration of certain ACF formula, entitlement, and discretionary programs, such as Head Start and Early Head Start Programs, and Developmental Disabilities.

The Office represents the Regional Administrator in dealing with ACF central office, states and grantees on all program and financial management policy matters for programs under its jurisdiction. It alerts the Regional Administrator to problems or issues that have significant implications for the programs.

IV. Region III, Philadelphia Office of ACF

A. Delete KD3.10 Organization in its entirety and replace with the following:

KD3.10 Organization. The Administration for Children and Families, Region III, Philadelphia Office, is organized as follows:

Office of the Regional Administrator (KD3A)

Office of Program and Administrative Support (KD3B)

Office of Family Services (KD3C)

Office of Child Development and Developmental Disabilities (KD3D)

B. Delete KD3.20 Functions, Paragraph A, in its entirety and replace with the following:

KD3.20 Functions. A. The Regional Office is headed by a Regional Administrator who reports to the Assistant Secretary for Children and Families through the Director, Office of Regional Operations. The Office provides executive leadership and directives to state, county, city, territorial and tribal governments, as well as public and private local grantees to ensure effective and efficient program and financial management. It ensures that these entities conform to federal laws, regulations, policies and procedures governing the programs, and exercises all delegated authorities and responsibilities for oversight of the programs.

The Office, through its Grants Officer, establishes regional financial management priorities. The Office provides cost allocation and financial support to the Office of Family Services and the Office of Child Development and Developmental Disabilities. The Office takes action to approve certain state plans and submits recommendations to the Assistant Secretary for Children and Families concerning state plan disapproval, where applicable. The Office contributes to the development of national policy based on regional perspectives on all ACF programs. It oversees ACF operations and the management of ACF regional staff; coordinates activities across regional programs; and assures that goals and objectives are met and departmental and agency initiatives are carried out. The Office alerts the Assistant Secretary for Children and Families to problems and issues that may have significant regional or national impact. The Office provides executive representation for ACF in regional external communications and serves as ACF liaison with the HHS Regional Director, other HHS operating divisions, other federal agencies, and public or private local organizations representing children and families.

C. Delete KD3.20 Functions, Paragraph B, in its entirety and replace with the following:

B. The Office of Program and Administrative Support is headed by an Assistant Regional Administrator who reports to the Regional Administrator. The Office assists the Regional Administrator in providing day-to-day support for regional administrative functions, including budget, performance management, procurement, property management, financial management, external and internal systems, statistical analyses, employee relations and human resource development activities.

The Office oversees the management and coordination of automated systems in the region, and provides data management and statistical analysis support to all Regional Office components. Data management responsibilities include the development of automated system applications to support and enhance program, fiscal, administrative and quality control operations, and the compilation and analysis of data on demographic and service trends that assist in monitoring and oversight responsibilities. Statistical analysis functions include the review of state and federal sampling procedures. The Office is also responsible for the development and maintenance of internal software applications to support the operation of the region's other components and provides backup to the OIS on-site Systems Administrator. The Office represents the Regional Administrator on administrative matters and on internal and state systems matters with ACF central office, states, contractors and grantees. It alerts the Regional Administrator to problems or issues that have significant implications for functional areas under its jurisdiction.

D. Delete KD3.20 Functions, Paragraph C, in its entirety and replace with the following:

C. The Office of Family Services is headed by an Assistant Regional Administrator who reports to the Regional Administrator.

The Office is responsible for providing centralized management, financial management services, and technical administration of ACF formula, block and entitlement programs such as TANF (Temporary Assistance to Needy Families), Child Care, Child Support Enforcement (CSE), Foster Care and Adoption Assistance, Child Welfare, Child Abuse and Neglect and the discretionary Runaway and Homeless Youth Program.

The Office provides policy guidance to state, county, city or town and tribal governments and public and private organizations to assure consistent and uniform adherence to federal requirements governing formula and entitlement programs. State plans are reviewed and recommendations concerning state plan approval or disapproval are made to the Regional Administrator. The Office provides technical assistance to entities responsible for administering these programs to resolve identified problems, ensures that appropriate procedures and practices are adopted, monitors the programs to ensure their efficiency and effectiveness, establishes regional financial management priorities and reviews cost allocation plans, and monitors state systems projects for the CSE, TANF, Child Care, and Child Welfare programs. The Office provides financial management services for ACF formula and entitlement grants in the region as well as for the Runaway and Homeless Youth Program, which is a discretionary grant. The Office issues discretionary grant awards based on a review of project objectives, budget projections, and proposed funding levels. The Office also reviews cost estimates and reports for ACF entitlement and formula grant programs and recommends funding levels. The Office performs systematic fiscal reviews and makes recommendations to the Regional Administrator to approve, defer or disallow claims for federal financial participation in ACF formula and entitlement grant programs. As applicable, recommendations are made on the clearance and closure of audits, paying particular attention to financial management deficiencies that decrease the efficiency and effectiveness of the ACF programs and taking steps to monitor the resolution of such deficiencies. The Office represents the Regional Administrator in dealing with the ACF program offices on all program and financial policy matters under its jurisdiction. Alerts or early warnings are provided to the Regional Administrator regarding problems or issues that may have significant implications for the programs.

E. Delete KD3.20 Functions, Paragraph D, in its entirety and replace with the following:

D. The Office of Child Development and Developmental Disabilities is headed by an Assistant Regional Administrator who reports to the Regional Administrator. The Office is responsible for providing centralized management, financial management services, and technical administration of ACF grant programs such as Head Start, Early Head Start, and Developmental Disabilities programs.

In that regard, the Office provides policy guidance to state, county, city or town and tribal governments and public and private organizations to assure consistent and uniform adherence to federal requirements. The Office provides technical assistance to entities responsible for administering these programs to ensure that appropriate procedures and practices are adopted, and monitors the programs to ensure their efficiency and effectiveness. The Office performs systematic fiscal reviews; makes recommendations to the Regional Administrator to approve or disallow costs under ACF discretionary grant programs; and makes recommendations to the Regional Administrator concerning state plan approval or disapproval, as applicable. The Office issues discretionary grant awards based on a review of project objectives, budget projections, and proposed funding levels. As applicable, recommendations are made on the clearance and closure of audits of grantee programs, paying particular attention to financial management deficiencies that decrease the efficiency and effectiveness of the ACF programs and taking steps to monitor the resolution of such deficiencies.

The Office represents the Regional Administrator in dealing with ACF program offices on all program policy and financial matters under its jurisdiction. Alerts or early warnings are provided to the Regional Administrator regarding problems or issues that may have significant implications on the programs.

V. Region IV, Atlanta Office of ACF

A. Delete KD4.10 Organization in its entirety and replace with the following:

KD 4.10 Organization. The Administration for Children and Families, Region IV, Atlanta Office is organized as follows:

Office of the Regional Administrator (KD4A)

Office of the Deputy Regional Administrator (KD4B)

Division of Community Programs (KD4B1)

Division of State Programs (KD4B2)

B. Delete KD4.20 Functions, Paragraph A, in its entirety and replace with the following:

KD4.20 Functions. A. The Regional Office is headed by a Regional Administrator who reports to the Assistant Secretary for Children and Families through the Director, Office of Regional Operations. The Office is responsible for administration and oversight of the Administration for Children and Families' (ACF) programs and key national goals and priorities. It represents ACF's regional interests, concerns, and relationships within the Department and among other Federal agencies and focuses on state agency culture change, more effective partnerships, and improved customer service and results-oriented performance measurement. The Office provides executive leadership and direction to state, county, city, and tribal governments, as well as public and private local grantees to ensure effective and efficient program and financial management. It ensures that these entities conform to federal laws, regulations, policies and procedures governing the programs, and exercises all delegated authorities and responsibilities for oversight of the programs.

The Office takes action to approve certain state plans and submits recommendations to the Assistant Secretary for Children and Families concerning state plan disapproval, where applicable. The Office contributes to the development of national policy based on regional perspectives on all ACF programs. It oversees ACF operations and the management of ACF regional staff; coordinates activities across regional programs; and assures that ACF goals are met and departmental and agency initiatives are carried out. The Office alerts the Assistant Secretary for Children and Families to problems and issues that may have significant regional or national impact. The Office provides executive representation for ACF in regional external communications, and serves as ACF liaison with the HHS Regional Director, other HHS operating divisions, other federal agencies, and public or private local organizations representing children and families.

Within the Office of the Regional Administrator are a Special Initiatives Staff and an Administrative Staff. The Special Initiatives staff is responsible for providing leadership, direction, coordination and implementation of Administration, HHS, and ACF priorities and initiatives in the Region. The staff assists the Regional Administrator in the promotion and establishment of collaborative partnerships of the priorities and initiatives in every program area. Additionally, it serves as focal point for media inquiries and public affairs activities and liaison with the Office of Community Services relative to the development of partnerships and collaborations around the Community Services/Action Agencies activities. The Administrative staff manages the regional administrative functions, budget planning and execution process, human resource and staff development activities, and technology.

C. Delete KD4.20 Functions, Paragraph B, in its entirety and replace with the following:

B. The Office of the Deputy Regional Administrator consists of the Deputy and the Grants Officers. The Deputy Regional Administrator serves as the full deputy or “alter ego” to the Regional Administrator, Administration for Children and Families. The Deputy assists the Regional Administrator with responsibility for providing executive direction, leadership and coordination to all ACF programs, financial operations and related activities in the Region. The Deputy has primary responsibility for overseeing day-to-day program operations. In the absence of the Regional Administrator, the Deputy Regional Administrator acts on all matters within the jurisdiction of the Regional Administrator, with full authority.

The Grants Officers, functioning independently of all program offices, provide program staff with expertise in the technical and other non-programmatic areas of grants administration, and provide appropriate internal control and checks and balances to ensure financial integrity in all phases of the grants process.

D. Delete KD4.20 Functions, Paragraph C, in its entirety and replace with the following:

C. The Division of Community Programs is headed by a Director who reports to the Deputy Regional Administrator. The Division consists of three branches with responsibility for ACF oversight and technical administration of the Head Start and discretionary grants funded directly from ACF to community-based grantees in the eight states. The Division provides policy guidance to county, city, town or tribal governments and public and private organizations to assure consistent compliance with federal requirements and the adoption of appropriate policies and procedures. The Division performs systematic on-site reviews of grantees to determine compliance with applicable federal requirements, requiring correction of identified deficiencies and, where necessary, adverse actions including defunding of dysfunctional grantees. The Division performs systematic fiscal reviews, makes recommendations to the Deputy Regional Administrator and Regional Administrator to approve or disallow costs under the ACF discretionary grant regulations, and makes recommendations regarding grant approval and disapproval. The Division issues discretionary grant awards based on a review of project objectives, budget projections, and proposed funding levels. The Division makes recommendations on the clearance and closure of grantee audits, paying particular attention to financial management deficiencies that decrease the efficiency and effectiveness of program service delivery to customers, and taking steps to monitor the resolution of such deficiencies. The Division oversees the management and coordination of the Head Start automation systems such as the Grant Application and Budget Instrument (GABI) for budget analysis on Head Start refunding applications, and to monitor grantee systems projects such as the Head Start Program Information Report (PIR) and the Head Start Management Tracking System. The Division represents the Regional Administrator in dealing with grantees on all matters of program policy and financial matters under its jurisdiction, providing early warnings on problems or issues that may have significant implications for ACF programs operated by local grantees.

E. Delete KD4.20 Functions, Paragraph D, in its entirety and replace with the following:

D. The Division of State Programs is headed by a Director who reports to the Deputy Regional Administrator. The Division consists of three branches responsible for providing centralized management, financial management services, and technical administration of ACF formula, block and entitlement programs including Temporary Assistance for Needy Families (TANF), Child Care, Child Support Enforcement, Foster Care and Adoption Assistance, Child Welfare, Family Preservation and Support Services, Child Abuse and Neglect and Developmental Disabilities.

The Division provides policy guidance to state, county, city, town or tribal governments and public and private organizations to assure consistent and uniform adherence to federal requirements governing ACF grants. State plans are reviewed and recommendations made to the Regional Administrator concerning state plan approvals or disapprovals. The Division provides technical assistance to entities responsible for administering ACF grants, resolving identified problems and ensuring adoption of appropriate procedures and practices that promote policy compliance and program efficiency and effectiveness. The Division provides financial management oversight for ACF grants under its jurisdiction; reviews cost allocation plans, program objectives, budget projections, cost estimates, and reports. The Division performs systematic fiscal reviews and makes recommendations to the Regional Administrator to approve, defer, or disallow claims for financial participation in ACF grants. As applicable, the Division makes recommendations regarding the clearance and closure of audits, paying particular attention to financial management deficiencies that decrease the efficiency and effectiveness of ACF programs and closely monitors the resolution of such deficiencies.

The Division represents the Regional Administrator in dealing with entities receiving ACF funding on all matters under its jurisdiction, and in providing early warnings of problems or issues that may have significant implications for ACF programs. Additionally, the Division provides oversight of state systems projects for ACF programs and is focal point for technical assistance to states on the development and enhancement of automated systems.

VI. Region V, Chicago Regional Office of ACF

A. Delete KD5.10 Organization in its entirety and replace with the following:

KD5.10 Organization. The Administration for Children and Families, Region V, Chicago Office, is organized as follows:

Office of the Regional Administrator (KD5A)

Office of Family Self-Sufficiency Programs (KD5C)

Office of Family and Child Development Programs (KD5D)

B. Delete KD5.20 Functions, Paragraph A, in its entirety and replace with the following:

KD5.20 Functions. A. The Regional Office is headed by a Regional Administrator who reports to the Assistant Secretary for Children and Families through the Director, Office of Regional Operations. In addition, the Office of the Regional Administrator has a Deputy Regional Administrator. The Office is responsible for the Administration for Children and Families' key national goals and priorities. It represents ACF's regional interests, concerns, and relationships within the Department and among other Federal agencies, and focuses on State agency culture change, more effective partnerships, collaborative relationships and improved customer service. The Office provides executive leadership and direction to state, county, city, and tribal governments, as well as public and private local grantees to ensure effective and efficient program and financial management. It ensures that these entities conform to federal laws, regulations, policies and procedures governing the programs, and exercises all delegated authorities and responsibilities for oversight of the programs. The Office takes action to approve certain state plans and submits its recommendations to the Assistant Secretary for Children and Families concerning state plan disapproval. The Office contributes to the development of national policy based on regional perspectives for all ACF programs. It oversees ACF operations and the management of ACF regional staff and coordinates the regional continuity of operations plan (COOP) in conjunction with the Regional Director, Regional Health Administrator and GSA. Also, the Office coordinates activities across regional programs; coordinates regional initiatives and operations; and assures that goals and objectives are carried out. The Office alerts the Assistant Secretary for Children and Families to problems and issues that may have significant regional or national impact. It represents ACF at the regional level in executive communications within ACF, with the HHS Regional Director, other HHS operating divisions, other federal agencies, and public or private local organizations representing children and families. The Deputy Regional Administrator serves as the full deputy or “alter ego” to the Regional Administrator, Administration for Children and Families. The Deputy assists the Regional Administrator with responsibility for providing executive direction, leadership and coordination to all ACF programs, financial operations and related activities in the Region. The Deputy has primary responsibility for managing the day-to-day operations. In the absence of the Regional Administrator, the Deputy acts on all matters within the jurisdiction of the Regional Administrator with full authority. Within the Office of the Regional Administrator, are the Management and Administration, and Fiscal Integrity Teams along with the Grants Officer. The Deputy supervises and directs the activities of these teams, focusing on regional administrative functions, including budget planning and execution, procurement, facility and property management, financial management, employee relations, human resources development, performance management, media inquiries and public affairs activities.

1. The Management and Administration Team directs and facilitates the development of regional work plans related to the overall ACF strategic plan; tracks, monitors and reports on regional progress in the attainment of ACF national goals and objectives; and coordinates and manages special and sensitive projects. Additionally it manages administrative functions, budget planning and execution and human resource development. It serves as the focal point for public affairs, in accordance with the ACF Office of Public Affairs and in conjunction with the HHS Regional Director; and assists the Regional Administrator in the management of cross-cutting initiatives and activities among regional components.

2. The Fiscal Integrity Team is responsible for providing centralized financial management and technical administration of certain ACF formula, discretionary, entitlement and block grant programs. These programs include Temporary Assistance to Needy Families, Child Support, Child Welfare Services, Foster Care and Adoption Assistance, Child Abuse and Neglect, Developmental Disabilities and Runaway and Homeless Youth. It provides expert grants management technical support to the Office of Family Self-Sufficiency and the Office of Family and Child Development to resolve complex problems in such areas as cost allocation, accounting principles, audit, deferrals and disallowances. It provides data management support to all Regional Office components.

3. The Grants Officer, functioning independently of all program offices, provides program staff with expertise in the technical and other non-programmatic areas of grants administration, and provides appropriate internal controls and checks and balances to ensure financial discretionary grants integrity in all phases of the grants process. The Grants Officer, in conjunction with the Fiscal Integrity Team, provides guidance to program offices on more complex financial management issues. The Grants Officer approves and signs all discretionary grants.

C. Delete KD5.20 Functions, Paragraph B, in its entirety and replace with the following:

B. The Office of Family Self-Sufficiency Programs is headed by a Director who reports to the Deputy Regional Administrator. The Office of Family Self-Sufficiency represents the Regional Administrator in dealing with ACF central office, states and grantees on all program and financial management policy matters for programs under its jurisdiction. It provides guidance and direction to States and grantees to improve the efficiency and effectiveness of ACF programs. It alerts the Deputy Regional Administrator to problems or issues that have significant implications for the programs. The Office consists of two branches operating collaboratively within a Tri-State team environment to administer Child Support Enforcement, Child Welfare Services, Foster Care and Adoption Assistance, Child Abuse and Neglect, Temporary Assistance to Needy Families and Runaway and Homeless Youth Programs for assigned states. The two branches provide policy guidance to states to assure consistent and uniform adherence to federal requirements governing formula, entitlement, block and discretionary grant programs. The two Branches are the Illinois, Indiana, Michigan Branch and the Minnesota, Ohio, Wisconsin Branch. The Office also consists of the Program Integration and Collaboration Team. The Program Integration and Collaboration Team provides administrative support, training, and facilitation of cross-cutting program initiatives and projects.

D. Delete KD5.20 Functions, Paragraph C, in its entirety and replace with the following:

C. The Office of Family and Child Development is headed by a Director who reports to the Deputy Regional Administrator. The Office is responsible for providing centralized program, financial management and technical administration of certain ACF discretionary, formula and block grant programs, such as Head Start, Early Head Start, Developmental Disabilities and the Child Care and Development Fund. The Office of Family and Child Development represents the Regional Administrator in dealing with ACF central office, states and grantees on all program and financial management policy matters for programs under its jurisdiction. It alerts the Deputy Regional Administrator to problems or issues that have significant implications for the programs.

The Office consists of three branches operating collaboratively within a Bi-State team environment to administer Head Start, Early Head Start and Child Care programs and a Program Integration and Collaboration Team. The Program Integration and Collaboration Team provides administrative support, training and facilitation of cross-cutting program initiatives and projects in addition to administering the Developmental Disabilities Program. The Head Start and Child Care branches provide guidance to states and grantees to assure consistent and uniform adherence to federal requirements governing discretionary and block grant programs. It provides guidance and direction to States and grantees to improve the efficiency and effectiveness of ACF programs. A Financial Management Officer is located in each branch of the Office of Family and Child Development to provide expertise in business and other non-programmatic areas of grants administration and to help ensure that grantees fulfill requirements of law, regulations and administrative policies. The Office establishes regional financial management priorities; reviews cost allocation plans, and makes recommendations to the Regional Administrator to disallow costs under ACF discretionary, formula and block grant programs. The Office issues grant awards based on a review of project objectives, budget projections and proposed funding levels. As applicable, it makes recommendations on the clearance and closure of audits of state and grantee programs, paying particular attention to deficiencies that decrease the efficiency and effectiveness of ACF programs and taking steps to resolve such deficiencies.

VII. Region VI, Dallas Office of ACF

A. Delete KD6.10 Organization in its entirety and replace with the following:

KD6.10 Organization. The Administration for Children and Families, Region VI, Dallas Office, is organized as follows:

Office of the Regional Administrator (KD6A)

Office of State and Tribal Programs (KD6E)

Office of Community Programs (KD6F)

B. Delete KD6.20 Functions, Paragraph A, in its entirety and replace with the following:

KD6.20 Functions. A. The Regional Office is headed by a Regional Administrator who reports to the Assistant Secretary for Children and Families through the Director, Office of Regional Operations. In addition, the Office of the Regional Administrator has a Deputy Regional Administrator and an Associate Regional Administrator. The Office is responsible for the Administration for Children and Families' key national goals and priorities. It represents ACF's regional interests, concerns, and relationships within the Department and among other Federal agencies, and focuses on State agency culture change, more effective partnerships, collaborative relationships for outcomes/results, and improved, quality customer service. The Office provides executive leadership and direction to state, county, city, territorial and tribal governments, as well as to other public and private local grantees to ensure effective and efficient program and financial management. The Office ensures that these entities conform to federal laws, regulations, policies and procedures governing the programs, and exercises all delegated authorities and responsibilities for oversight of the programs.

The Office takes action to approve certain state and tribal plans, and submits its recommendations to the Assistant Secretary for Children and Families concerning state plan disapproval. The Office contributes to the development of national policy based on regional perspectives for all ACF programs. It oversees ACF operations and the management of ACF regional staff; coordinates activities across regional programs; coordinates regional initiatives and operations; and assures that goals and objectives are carried out. The Office alerts the Assistant Secretary for Children and Families to problems and issues that may have significant regional or national impact. It represents ACF at the regional level in executive communications within ACF, with the HHS Regional Director, other HHS operating divisions, other federal agencies, and public or private local organizations representing children and families.

The Deputy Regional Administrator serves as the full deputy or “alter ego” to the Regional Administrator, Administration for Children and Families. The Deputy assists the Regional Administrator with responsibility for providing executive direction, leadership and coordination to all ACF programs, financial operations and related activities in the Region. The Deputy has primary responsibility for managing the day-to-day operations. In the absence of the Regional Administrator, the Deputy acts on all matters within the jurisdiction of the Regional Administrator with full authority.

Within the Office of the Regional Administrator are the Grants Officer, Grants Advisor, the Financial Management Resource Team, and Special Initiatives operations which are under the supervision and direction of the Deputy. The Grants Officer and Grants Advisor, functioning independently of all program offices, provide program staff with expertise in the business and other non-programmatic areas of grant award and administration, and provide appropriate internal controls and checks and balances to ensure financial integrity in all phases of the grants process. The Grants Officer, who serves as the team leader of the Financial Management Resource Team, and the Grants Advisor provide guidance to program offices on more complex financial management issues. The Grants Officer approves and signs all discretionary grants. The Grants Advisor has the full delegated grant authority and serves in that capacity in the absence of the Grants Officer.

The Financial Management Resource Team is responsible for providing centralized financial management and technical administration of certain ACF discretionary, entitlement, and block grant programs. These programs include Temporary Assistance to Needy Families, Child Care Programs, Child Support Enforcement, Child Welfare Services, Foster Care and Adoption Assistance, Child Abuse and Neglect, Developmental Disabilities, Head Start, Early Head Start and Runaway and Homeless Youth. It is responsible for ensuring that, for grants under their cognizance, both federal staff and grantees fulfill applicable statutory, regulatory, and administrative policy requirements. It provides expert grants management technical support to the Office of State and Tribal Programs and Office of Community Programs to resolve complex problems in such areas as cost allocation, accounting principles, audit, deferrals and disallowances.

The Associate Regional Administrator shares in the responsibility for executive direction, leadership and coordination to all ACF programs, financial operations and related activities in the Region. The Associate Regional Administrator has primary responsibility for regional administrative operations and management of the region's technology programs and operations. The Associate Regional Administrator supervises administrative staff, assisting the Regional Administrator in providing day-to-day support for regional administrative functions, including coordination of the development of regional work plans related to the overall ACF strategic plan; tracks, monitors and reports on regional progress in the attainment of ACF national goals and objectives; coordinates and manages special and sensitive projects; budget planning and execution, facilities management programs and human resource development; focal point for public affairs, in accordance with the ACF Office of Public Affairs and in conjunction with the HHS Regional Director; manages cross-cutting initiatives and activities among the Regional components; and provides telecommunications and data management support to all Regional office components, including the development of automated applications to support and enhance program, fiscal and administrative operations.

C. Delete KD6.20 Functions, Paragraph B, in its entirety and replace with the following:

B. The Office of State and Tribal Programs is headed by a Director who reports to the Regional Administrator. The Office is responsible for providing centralized management, financial management services, and technical administration of certain ACF formula, block and entitlement programs such as Child Support Enforcement (CSE), Temporary Assistance for Needy Families (TANF), Child Care Programs, Child Welfare Services, Foster Care and Adoption Assistance, Child Abuse and Neglect, Developmental Disabilities and Tribal Programs. The Office provides policy guidance to state, county, city or town and tribal governments, grantees and public and private organizations to assure consistent and uniform adherence to federal requirements governing formula and entitlement programs. It provides guidance and direction to states, local and tribal governments and grantees to improve the efficiency and effectiveness of ACF programs. State plans, Tribal plans and Tribal construction plans are reviewed and recommendations concerning state plan approval or disapproval are made to the Regional Administrator. The Office provides technical assistance to entities responsible for administering these programs to resolve identified problems, ensuring that appropriate procedures and practices are adopted, monitoring the programs to ensure their efficiency and effectiveness and establishing regional financial management priorities and reviewing cost allocation plans. The Office provides financial management services for ACF entitlement grants in the region. It also reviews costs estimates and reports for ACF entitlement grant programs and recommends funding levels. The Office performs systematic fiscal reviews and makes recommendations to the Regional Administrator to approve, defer or disallow claims for federal financial participation in ACF entitlement grant programs. As applicable, recommendations are made on the clearance and closure of audits of state programs, paying particular attention to financial management deficiencies that decrease the efficiency and effectiveness of the ACF programs and taking steps to monitor the resolution of such deficiencies. The Office represents the Regional Administrator in dealing with ACF program offices on all program policy and financial matters for programs under its jurisdiction. Alerts or early warnings are provided to the Regional Administrator regarding problems or issues that have significant implications for the programs.

D. Delete KD6.20 Functions, Paragraph C, in its entirety and replace with the following:

C. The Office of Community Programs is headed by a Director who reports to the Regional Administrator. The Office is responsible for providing centralized program, financial management and technical administration of ACF discretionary grant programs such as Head Start, Early Head Start, and Runaway and Homeless Youth programs. The Office provides policy guidance to state, county, city or town and tribal governments and public and private organizations to assure consistent and uniform adherence to federal requirements. The Office provides technical assistance to entities responsible for administering these programs to ensure that the appropriate procedures and practices are adopted, and monitoring the programs to ensure their efficiency and effectiveness. The Office performs systematic fiscal reviews and makes recommendations to the Regional Administrator to approve or disallow costs under ACF discretionary grant programs. The Office issues certain discretionary grant awards based on a review of project objectives, budget projects, and proposed funding levels. As applicable, recommendations are made on the clearance and closure of audits of grantee programs, paying particular attention to financial management deficiencies that decrease the efficiency and effectiveness of the ACF programs and taking steps to monitor the resolution of such deficiencies. The Office represents the Regional Administrator in dealing with ACF program offices on all program policy and financial matters for programs under its jurisdiction. Alerts or early warnings are provided to the Regional Administrator regarding problems or issues that have significant implications for the programs.

VII. Region VII, Kansas City Office of ACF

A. Delete KD7.10 Organization in its entirety and replace with the following:

KD7.10 Organization. The Administration for Children and Families, Region VII, Kansas City Office, is organized as follows:

Office of the Regional Administrator (KD7A)

Office of State and Tribal Operations (KD7E)

Office of Community Operations (KD7F)

Office of Program Support (KD7G)

B. Delete KD7.20 Functions, Paragraph A, in its entirety and replace with the following:

KD7.20 Functions. A. The Regional Office is headed by a Regional Administrator who reports to the Assistant Secretary for Children and Families through the Director, Office of Regional Operations. In addition, the Office of the Regional Administrator has a Deputy Regional Administrator who reports to the Regional Administrator. The Office provides executive leadership and directives to state, county, city, territorial and tribal governments, as well as public and private local grantees to ensure effective and efficient program and financial management. It ensures that these entities conform to federal laws, regulations, policies and procedures governing the programs, and exercises all delegated authorities and responsibilities for oversight of the programs. The Office takes action to approve certain state plans and submits recommendations to the Assistant Secretary for Children and Families concerning state plan disapproval. The Office contributes to the development of national policy based on regional perspectives on all ACF programs. It oversees ACF operations, the management of ACF regional staff; coordinates activities across regional programs; and assures that goals and objectives are met and departmental and agency initiatives are carried out. The Office alerts the Assistant Secretary for Children and Families to problems and issues that may have significant regional or national impact. The Office represents ACF at the regional level in executive communications within ACF, with the HHS Regional Director, other HHS operating divisions, other federal agencies, and public or private local organizations representing children and families.

Within the Office of the Regional Administrator, administrative staff assists the Regional Administrator and Deputy Regional Administrator in providing day-to-day support for regional administrative functions, including budget, performance management, procurement, property management, employee relations and human resource development activities.

C. Delete KD7.20 Functions, Paragraph B, in its entirety and replace with the following:

B. The Office of State and Tribal Operations is headed by a Director who reports to the Regional Administrator. The Office is responsible for providing centralized management, financial management services, and technical administration of ACF formula, block and entitlement programs such as Temporary Assistance for Needy Families (TANF), Child Support Enforcement (CSE), Child Care, Foster Care and Adoption Assistance, Child Welfare, Child Abuse and Neglect and Developmental Disabilities. The Office provides policy guidance to state, county, city or town and tribal governments and public and private organizations to assure consistent and uniform adherence to federal requirements governing formula and entitlement programs. State plans are reviewed and recommendations concerning state plan approval or disapproval are made to the Regional Administrator. The Office provides technical assistance to entities responsible for administering these programs to resolve identified problems, ensures that appropriate procedures and practices are adopted, monitors the programs to ensure their efficiency and effectiveness and establishes regional financial management priorities and reviews cost allocation plans. The Office provides financial management services for ACF formula and entitlement grants in the region. The Office reviews cost estimates and reports for ACF entitlement and formula grant programs and recommends funding levels. The Office performs systematic fiscal reviews and makes recommendations to the Regional Administrator to approve, defer or disallow claims for federal financial participation in ACF formula and entitlement grant programs. As applicable, recommendations are made on the clearance and closure of audits of state programs. The Office represents the Regional Administrator in dealing with the ACF program offices on all program and financial policy matters under its jurisdiction. Alerts or early warnings are provided to the Regional Administrator regarding problems or issues that may have significant implications for the programs.

D. Delete KD7.20 Functions, Paragraph C, in its entirety and replace with the following:

C. The Office of Community Operations is headed by a Director who reports to the Regional Administrator. The Office is responsible for providing centralized management, financial management services, and technical administration of ACF discretionary grant programs such as Head Start and Youth Programs. The Office provides policy guidance to state, county, city or town and tribal governments and public and private organizations to assure consistent and uniform adherence to federal requirements. The Office provides technical assistance to entities responsible for administering these programs to ensure that appropriate procedures and practices are adopted, and monitors the programs to ensure their efficiency and effectiveness. The Office performs systematic fiscal reviews; and makes recommendations to the Regional Administrator to approve or disallow costs under ACF discretionary grant programs. The Office issues certain discretionary grant awards based on a review of project objectives, budget projections, and proposed funding levels. As applicable, recommendations are made on the clearance and closure of audits of grantee programs. The Office oversees the management and coordination of office automation systems in the region such as the Grants Application Budget Instrument (GABI) and the Grants Administration Tracking System (GATES) and monitors grantee systems projects such as the Head Start Program Information Report and the Head Start Management Tracking System. The Office represents the Regional Administrator in dealing with ACF program offices on all program policy and financial matters under its jurisdiction. Alerts or early warnings are provided to the Regional Administrator regarding problems or issues that may have significant implications on the programs.

E. Delete KD7.20 Functions, Paragraph D, in its entirety and replace with the following:

D. The Office of Program Support is headed by a Director who reports to the Regional Administrator. The Grants Officer function is located in the office and is responsible for providing centralized financial management services for all programs administered by the Regional Office. The Office provides cost allocation and audit support to the Office of State and Tribal Operations and the Office of Community Operations. The Office conducts analyses of state developments related to ACF programs and assists with tracking progress of the Government Performance and Results Act (GPRA) outcomes. The Office provides technical support to the Office of State and Tribal Operations and the Office of Community Operations on special projects and initiatives. The Office represents the Regional Administrator in dealing with ACF offices on all program and financial policy matters under its jurisdiction. Alerts or early warnings are provided to the Regional Administrator regarding problems or issues that may have significant implications for the programs.

IX. Region VIII, Denver Office of ACF

A. Delete KD8.10 Organization in its entirety and replace with the following:

KD8.10 Organization. The Administration for Children and Families, Region VIII, Denver Office is organized as follows:

Office of the Regional Administrator (KD8A)

Office of Early Childhood Programs (KD8B)

Office of State and Tribal Programs (KD8C)

B. Delete KD8.20 Functions, Paragraph A, in its entirety and replace with the following:

KD8.20 Functions A. The Regional Office is headed by a Regional Administrator who reports to the Assistant Secretary for Children and Families through the Director, Regional Operations. The Office is responsible for the Administration for Children and Families' key national goals and priorities. It represents ACF's regional interests, concerns, and relationships within the Department and among other Federal agencies, and focuses on State agency culture change, more effective partnerships, collaborative relationships which focus on outcomes/results, and improved, quality customer service. The Office provides executive leadership and direction to state, county, city, territorial and tribal governments, as well as to other public and private local grantees to ensure effective and efficient program and financial management. The Office ensures that these entities conform to federal laws, regulations, policies and procedures governing the programs, and exercises all delegated authorities and responsibilities for oversight of the programs.

The Office takes action to approve certain state and tribal plans and tribal construction plans and submits its recommendations to the Assistant Secretary for Children and Families concerning state plan disapproval. The Office contributes to the development of national policy based on regional perspectives for all ACF programs. It oversees ACF operations and the management of ACF regional staff; coordinates activities across regional programs; and assures that goals and objectives are carried out. The Office alerts the Assistant Secretary for Children and Families to problems and issues that may have significant regional or national impact. It represents ACF at the regional level in executive communications within ACF, with the HHS Regional Director, other HHS operating divisions, other federal agencies, and public or private local organizations representing children and families.

An administrative and program support team, under the leadership of the Regional Administrator, directs and facilitates development of regional work plans related to the overall ACF strategic plan, tracks, monitors and reports on regional progress in the attainment of ACF national goals and objectives, and coordinates and manages special and sensitive projects. Additionally, it manages regional administrative functions, budget planning and execution, facilities management, and human resource development. This team serves as the focal point for regional public affairs and assists the Regional Administrator in the management of crosscutting initiatives and activities among the regional components. In addition, the Team provides internal systems, telecommunications, and data management support to regional office components.

Within the Office of the Regional Administrator, the Grants Officer, functioning independently of all program offices, provides program staff with expertise in the business and other non-programmatic areas of grant award and administration, and provides appropriate internal controls and checks and balances to ensure financial integrity in all phases of the grants process. The Grants Officer approves and signs all grants and provides guidance to program offices on more complex financial management issues. The grants staff is responsible for providing centralized financial management and technical administration of certain ACF discretionary, entitlement, and block grant programs. These programs include Temporary Assistance to Needy Families, Child Care Programs, Child Support Enforcement, Child Welfare Services, Foster Care Youth Development Programs, and Adoption Assistance, Child Abuse and Neglect, Runaway and Homeless Youth, Developmental Disabilities, Head Start and Early Head Start. It is responsible for ensuring that, for grants under their cognizance, both federal staff and grantees fulfill applicable statutory, regulatory, and administrative policy requirements. It provides expert grants management technical support to the Office of Early Childhood Programs and the Office of State and Tribal Programs to resolve complex problems in such areas as cost allocation, accounting principles, audit, deferrals and disallowances.

C. Delete KD8.20 Functions, Paragraph B, in its entirety and replace with the following:

B. The Office of Early Childhood Programs is headed by a Deputy Regional Administrator who reports to the Regional Administrator. The Office is responsible for providing centralized program, financial management and technical administration of certain ACF discretionary and block grant programs such as Head Start, Early Head Start, Runaway and Homeless Youth, Developmental Disabilities, and Child Care Programs. The Office of Early Childhood Programs represents the Regional Administrator in dealing with ACF program offices and grantees on all program and financial management policy matters for programs under its jurisdiction. It alerts the Regional Administrator to problems or issues that have significant implications for the programs.

The Office administers the Head Start, Early Head Start, Runaway and Homeless Youth, Developmental Disabilities, and Child Care Programs and is responsible for providing centralized program, financial management and technical administration of these programs. The Office provides policy guidance to state, county, city or town and tribal governments and public and private organizations to assure consistent and uniform adherence to federal requirements. State and Tribal plans are reviewed and recommendations concerning state plan approval or disapproval are made to the Regional Administrator. The Office provides technical assistance to entities responsible for administering these programs to resolve identified problems, ensuring that appropriate procedures and practices are adopted, monitoring the programs to ensure their efficiency and effectiveness and establishing regional financial management priorities and reviewing cost allocation plans. The Office provides financial management services for ACF entitlement grants in the region. It also reviews costs estimates and reports for ACF entitlement and formula grant programs and recommends funding levels. The Office performs systematic fiscal reviews and makes recommendations to the Regional Administrator to approve or disallow costs under ACF discretionary, entitlement and block grant programs. The Office issues grant awards based on a review of project objectives, budget projections, and proposed funding levels. As applicable, recommendations are made on the clearance and closure of audits of grantee programs, paying particular attention to financial management deficiencies that decrease the efficiency and effectiveness of the ACF programs and taking steps to monitor the resolution of such deficiencies.

D. Delete KD8.20 Functions, Paragraph C, in its entirety and replace with the following:

C. The Office of State and Tribal Programs is headed by a Deputy Regional Administrator who reports to the Regional Administrator. The Office is responsible for providing centralized management, financial management services, and technical administration of certain ACF block and entitlement programs. The Office represents the Regional Administrator in dealing with ACF program offices on all program policy and financial matters for programs under its jurisdiction. It alerts the Regional Administrator to problems or issues that have significant implications for the programs.

The Office administers the Child Support Enforcement (CSE), Temporary Assistance for Needy Families (TANF), Child Welfare Services, Foster Care and Adoption Assistance, Youth Development, and Child Abuse and Neglect programs and is responsible for providing centralized program, financial management and technical administration of these programs. The Office provides policy guidance to state, county, city or town and tribal governments, grantees and public and private organizations to assure consistent and uniform adherence to federal requirements governing formula and entitlement programs. It provides guidance and direction to states, local and tribal governments and grantees to improve the efficiency and effectiveness of ACF programs. State and tribal plans are reviewed and recommendations concerning state plan approval or disapproval are made to the Regional Administrator. The Office provides technical assistance to entities responsible for administering these programs to resolve identified problems, ensuring that appropriate procedures and practices are adopted, monitoring the programs to ensure their efficiency and effectiveness and establishing regional financial management priorities and reviewing cost allocation plans. The Office provides financial management services for ACF entitlement grants in the region. It also reviews costs estimates and reports for ACF entitlement grant programs and recommends funding levels. The Office performs systematic fiscal reviews and makes recommendations to the Regional Administrator to approve, defer or disallow claims for federal financial participation in ACF entitlement grant programs. As applicable, recommendations are made on the clearance and closure of audits of state programs, paying particular attention to financial management deficiencies that decrease the efficiency and effectiveness of the ACF programs and taking steps to monitor the resolution of such deficiencies.

X. Region IX, San Francisco Office of ACF

A. Delete KD9.10 Organization in its entirety and replace with the following:

KD9.10 Organization. The Administration for Children and Families, Region IX, San Francisco Office is organized as follows:

Office of the Regional Administrator (KD9A)

Program Support Unit (KD9B)

Self-Sufficiency Unit (KD9C)

Children and Youth Development Unit (KD9D)

B. Delete KD9.20 Functions, Paragraph. A, in its entirety and replace with the following:

KD9.20 Functions. A. The Regional Office is headed by a Regional Administrator who reports to the Assistant Secretary for Children and Families through the Director, Office of Regional Operations. The Office is responsible for the Administration for Children and Families' (ACF) key national goals and priorities. It represents ACF's regional interests, concerns, and relationships within the Department of Health and Human Services (HHS) and among other Federal agencies, and focuses on State agency culture change, effective partnerships which focus on outcomes/results, and quality customer service. It provides executive leadership and direction to state, county, city, territorial and tribal governments, as well as to other public and private local grantees to ensure effective and efficient program and financial management. The Office ensures that these entities conform to federal laws, regulations, policies and procedures governing the programs, and exercises all delegated authorities and responsibilities for oversight of the programs.

The Office is responsible for approval of certain state plans and submission of recommendations to the Assistant Secretary for Children and Families for state plan disapproval. The Office contributes to the development of national policy based on regional perspectives on all ACF programs. It oversees ACF regional operations and the management of regional staff; coordinates activities across regional programs; and assures that goals and objectives are met and departmental and agency initiatives are carried out. The Office alerts the Assistant Secretary for Children and Families to problems and issues that may have significant regional or national impact. The Office represents ACF at the regional level in executive communications within ACF, with the HHS Regional Director, other HHS operating divisions, other federal agencies, and public or private organizations representing children and families.

C. Delete KD9.20 Functions, Paragraph B, in its entirety and replace with the following:

B. The Program Support Unit is headed by a manager who reports to the Regional Administrator. It supports the Office of the Regional Administrator and the Self-Sufficiency and Children and Youth Development Units and their grantees in the areas of quality concepts and performance measurement, including the reengineering of work processes and the development of computer applications, customer surveys, statistical applications, and performance measurement models. The Unit directs the development of regional work plans related to the overall ACF strategic plan and tracks, monitors and reports on regional progress in the attainment of ACF national goals and objectives. It manages and/or coordinates special, sensitive and/or cross-cutting projects and initiatives. The Unit serves as the focal point for public affairs and contacts with the media, public awareness activities, information dissemination and education campaigns in conjunction with the ACF Office of Public Affairs and the HHS Regional Director.

The Unit provides day-to-day support for regional administrative functions, oversees the management and coordination of internal automated systems in the region, and provides data management support to all Regional Office components. Administrative functions include budget formulation and execution, facility and space management, procurement, and human resources development and training. Data management responsibilities include the development of automated systems applications to support and enhance program, fiscal and administrative operations, and the compilation of data on demographic and service trends that assist in program monitoring and technical assistance responsibilities.

The Unit performs Grants Officer functions, including grants and fiscal oversight to ensure consistent policy application across the Regional Office units. The Unit assures that audit clearance and other financial management processes are implemented consistently and timely throughout the Regional Office. The Unit provides expert grants management technical support to the Self-Sufficiency and Children and Youth Development Units to resolve complex problems in such areas as cost allocation, accounting principles, audit, deferrals and disallowances. As Grants Officer, the Unit approves and signs all discretionary grants.

The Unit represents the Regional Administrator in dealing with ACF offices on all program and financial policy matters under its jurisdiction. Early alerts are provided to the Regional Administrator regarding problems or issues that may have significant implications for the programs.

D. Delete KD9.20 Functions, Paragraph C, in its entirety and replace with the following:

C. The Self-Sufficiency Unit is headed by a manager who reports to the Regional Administrator. The Unit is responsible for providing program and financial management services, and for technical administration of ACF formula, block and entitlement grant programs such as Temporary Assistance for Needy Families (TANF), Child Support Enforcement (CSE), Child Care and Development Fund, Foster Care and Adoption Assistance, Child Welfare, Child Abuse and Neglect and Developmental Disabilities. The Unit provides policy guidance to state, county, city, territorial and tribal governments, as well as to other public and private organizations to assure consistent and uniform adherence to federal requirements governing formula, block and entitlement grant programs. State plans are reviewed and recommendations concerning state plan approval or disapproval are made to the Regional Administrator. The Unit provides technical assistance to entities responsible for administering these programs to resolve identified problems; ensures that appropriate procedures and practices are adopted; monitors the programs to ensure their efficiency and effectiveness; establishes regional financial management priorities; reviews cost allocation plans; and provides technical assistance to and monitors state systems projects for designated ACF programs.

The Unit provides financial management services for ACF formula, entitlement, and block grants in the region. It also reviews cost estimates and reports for these grant programs and recommends funding levels. The Unit performs systematic fiscal reviews and makes recommendations to approve, defer or disallow claims for federal financial participation in ACF formula, entitlement and block grant programs. As applicable, recommendations are made on the clearance and closure of audits of state programs, paying particular attention to financial management deficiencies that decrease the efficiency and effectiveness of ACF programs and to monitoring the resolution of such deficiencies. The Unit represents the Regional Administrator in dealing with the ACF program offices on all program and financial policy matters under its jurisdiction. Early alerts are provided to the Regional Administrator regarding problems or issues that may have significant implications for the programs.

E. Delete KD9.20 Functions, Paragraph D, in its entirety and replace with the following:

D. The Children and Youth Development Unit is headed by a manager who reports to the Regional Administrator. The Unit is responsible for providing program and financial management services, and for technical administration of ACF discretionary grant programs such as Head Start (HS), Early Head Start (EHS), and Runaway and Homeless Youth (RHY). In that regard, the Unit provides policy guidance to public and private organizations, as well as to state, county, city, territorial and tribal governments to assure consistent and uniform adherence to federal requirements. The Unit provides technical assistance to and coordinates various training activities for entities responsible for administering these programs to ensure that appropriate procedures and practices are adopted, and monitors the programs to ensure their efficiency and effectiveness. The Unit administers a system of fiscal reviews; reviews costs for allowability; and makes recommendations to disallow costs under ACF discretionary grant programs. It issues certain discretionary grant awards based on a review of project objectives, budget projections, and proposed funding levels. As applicable, recommendations are made on the clearance and closure of audits of grantee programs, paying particular attention to financial management deficiencies that decrease the efficiency and effectiveness of the ACF programs and to monitoring the resolution of such deficiencies.

The Unit represents the Regional Administrator in dealing with ACF program offices on all program policy and financial matters under its jurisdiction. Early alerts are provided to the Regional Administrator regarding problems or issues that may have significant implications for the programs.

XI. Region X, Seattle Office of ACF

A. Delete KD10.10 Organization in its entirety and replace with the following:

KD10.10 Organization. The Administration for Children and Families, Region X, Seattle Office, is organized as follows:

Management Team (KDXA)

Service Delivery Teams (KDXE)

Support Teams (KDXF)

B. Delete KD10.20 Functions, Paragraph A, in its entirety and replace with the following:

KD10.20 Functions. A. The Management Team is headed by the Regional Administrator who reports to the Assistant Secretary for Children and Families through the Director, Office of Regional Operations. Also, the team has two Associate Regional Administrators who report directly to the Regional Administrator. In addition to being a team member, the Regional Administrator is responsible for alerting the Assistant Secretary for Children and Families to problems and issues that may have significant regional or national impact.

The Team provides executive leadership to state, county, city, and tribal governments, as well as public and private local grantees to ensure effective, efficient, results-oriented program and financial management. ACF's primary goal is to assist vulnerable and dependent children and families to achieve economic independence, stability, and self-reliance. The Team partners with state, local, and tribal organizations to promote adherence to federal laws, regulations, policies and procedures governing the programs, and exercises all delegated authorities and responsibilities for oversight of the programs. The Team takes action to approve certain state and tribal plans and submits recommendations to the Assistant Secretary for Children and Families concerning plan disapproval. The Team contributes to the development of national policy based on regional perspectives on all ACF programs. It oversees ACF operations; manages ACF regional staff; coordinates activities across regional programs; and assures that goals and objectives are met and departmental and agency initiatives are carried out.

The Team represents ACF at the regional level in executive communications within ACF, the HHS Regional Director, other HHS operating divisions, other federal agencies, Tribal and Native American Organizations, and public or private local organizations representing children and families.

In order to ensure that agency goals are accomplished, the Management Team provides leadership to grantees through a staff organized in Service Delivery Teams. ACF programs and functions are grouped within teams according to current ACF programs and/or initiatives. Each team is charged with achieving measurable progress towards ACF goals through their work with state, local, and tribal grantees, the public, other federal agencies and internally within the Department. The regional team structure is designed to allow ACF to respond quickly in a dynamic and changing environment to achieve ACF and HHS goals.

C. Delete KD10.20 Functions, Paragraph B, in its entirety and replace with the following:

B. The Service Delivery Teams (SDTs) report directly to the Management Team. The SDTs are responsible for providing centralized management and technical administration of ACF formula, block, discretionary, and entitlement grants and programs to assist families achieve economic independence and self-sufficiency, and to promote safe, healthy, and permanent environments in which children can grow. The SDTs review and recommend approval or disapproval of state and tribal plans to the Management Team. SDTs recommend issuance of certain grant awards based on a review of project objectives, budget projections, and proposed funding levels.

The SDTs provide policy guidance to state, local, and tribal governments, and public and private organizations to foster consistent and uniform adherence to federal requirements governing formula, block, and entitlement programs. The SDTs provide technical assistance to states, grantees, and tribes to resolve identified problems; ensure that appropriate procedures and practices are adopted; develop and implement outcome-based performance measures; and to monitor the programs to ensure their efficiency and effectiveness.

The SDTs represent the Management Team in dealing with the ACF program offices on all program and policy matters under their jurisdiction. Alerts or early warnings are provided to the Management Team regarding problems or issues that may have significant implications for the programs.

D. Delete KD10.20 Functions, Paragraph C, in its entirety and replace with the following:

C. The Support Teams provide administrative and management support to the Regional Administrator and Management Team. Members of the Support Teams report directly to the Regional Administrator or a member of the Management Team. Functions within the Team include day-to-day operational management of regional administrative functions such as, budget, performance management, procurement, property management, employee relations, human resource development activities, planning and coordination, and office automation systems.

The Team includes experts in cash assistance and supportive services programs who serve as resources to all teams on issues which cross-cut the organization, such as legislative policy updates, partnership agreements, result measurements, policy guidance, and monitoring state systems projects for ACF programs.

Team members also provide leadership in regional financial management matters to the Service Delivery Teams and the Management Team, including reviewing cost estimates and reports for ACF grant programs, recommending funding levels, and performing systematic fiscal reviews. The Team approves grant awards based on a review of project objectives, budget projections, and approved funding plans. It provides funds accounting for discretionary grant programs. It establishes regional financial management priorities and reviews cost allocation plans.

Dated: November 7, 2003.
Wade F. Horn,
Assistant Secretary for Children and Families.

[FR Doc. 03-28915 Filed 11-18-03; 8:45 am]

BILLING CODE 4184-01-P